DEPARTMENT OF HEALTH AND HUMAN SERVICES

Centers for Disease Control and Prevention

[30DAY-05-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

NIOSH Training Grants, 42 CFR Part 86, Application and Regulations (OMB No. 9020-0261)—Extension—National Institute for Occupational Safety and Health (NIOSH). Public law 91-596 requires CDC/NIOSH to provide an adequate supply of professionals to carry out the purposes of the Act to assure a safe and healthful work environment. NIOSH supports educational programs through training grant awards to academic institutions for the training of industrial hygienists, occupational physicians, occupational health nurses and safety professionals. Grants are provided to 15 Education and Research Centers (ERCs) which provide multi-disciplinary graduate academic and research training for professionals, continuing education for practicing professionals and outreach programs in the Region. There are also currently 41 Training Project Grants (TPGs) which provide single discipline academic and technical training throughout the country. 42 CFR Part 86, Grants for Education Programs in Occupational Safety and Health, Subpart B—Occupational Safety and Health Training, provides guidelines for implementing Public Law 91-596.

The training grant application form (CDC2.145.A) is used by the National Institute of Occupational Safety and Health to collect information from new grant applicants submitting competing applications, and from existing applicants for competing renewal grants. The information is used to determine the eligibility of applicants for grant review and by peer reviewers during the peer review process to evaluate the merit of the proposed training project. CDC Form 2.145B is used for non-competing awards to evaluate the annual progress of the applicant during the approved project period.

Extramural training grant awards are made annually following an extramural review process of the training grant applications, review by an internal Training Grants Council and an internal review of non-competing applicants. The estimated annualized burden is 6,161 hours.

Respondents | No. of respondents | No. of responses/ respondent | Avg. burden per response (in hrs)
Universities | 61 | 1 | 101

Dated: November 8, 2000.
Nancy Cheal,
Acting Associate Director for Policy, Planning, and Evaluation, Centers for Disease Control and Prevention (CDC).

[FR Doc. 00-29260 Filed 11-14-00; 8:45 am]

BILLING CODE 4163-18-P